DEPARTMENT OF COMMERCE

International Trade Administration

[Application No. 19-5A001]

Export Trade Certificate of Review

ACTION: Notice of application for an amended Export Trade Certificate of Review for National Pecan Shellers Association (NPSA), Application No. 19-5A001.

SUMMARY: The Secretary of Commerce, through the Office of Trade and Economic Analysis (OTEA) of the International Trade Administration, has received an application for an amended Export Trade Certificate of Review (Certificate). This notice summarizes the proposed application and seeks public comments on whether the Certificate should be issued.

FOR FURTHER INFORMATION CONTACT: Amanda Reynolds, Acting Director, OTEA, International Trade Administration, (202) 482-5131 (this is not a toll-free number) or email at etca@trade.gov.

SUPPLEMENTARY INFORMATION: Title III of the Export Trading Company Act of 1982 (15 U.S.C. 4011-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether a Certificate should be issued. If the comments include any privileged or confidential business information, it must be clearly marked and a nonconfidential version of the comments (identified as such) should be included. Any comments not marked as privileged or confidential business information will be deemed to be nonconfidential.

Written comments should be sent to ETCA@trade.gov. An original and two (2) copies should also be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 19-5A001.”

Summary of the Application

Applicant: National Pecan Shellers Association, 4348 Carter Creek Pkwy Ste 101, Bryan, TX 77802.

Contact: Catherine Clark and Kelsey Wallis, Managing Staff at Texas Pecan Growers Association.

Application No.: 19-5A001.

Date Deemed Submitted: November 13, 2024.

Proposed Amendment: National Pecan Shellers Association seeks to amend its Certificate as follows:

1. Add the following entities as Exporting Members of the Certificate within the meaning of section 325.2(l) of the Regulations (15 CFR 325.2(l)):

• Pecaninis Inc., San Antonio, TX

• Rancho Pecana, El Paso, TX

2. Remove the following companies as Members of the Certificate:

• Exporting Members

○ Chase Pecan, LP, San Saba, TX

○ John B. Sanfilippo & Son, Inc., Elgin, IL

○ Lamar Pecan Company, Hawkinsville, GA

• Non-exporting Members

○ The Kellen Company, Atlanta, GA (Independent Third Party)

3. Change the location of the following Non-exporting Member of the Certificate:

• Pecan Export Trade Council's location changes from Atlanta, GA to Bryan, TX

NPSA's proposed amendment of its Certificate would result in the following Membership list:

Exporting Members

• Arnco, Inc. dba Carter Pecan, Panama City Beach, FL

• Diamond Foods LLC, Stockton, CA

• Easterlin Pecan Co, Montezuma, GA

• HNH Nut Company, Visalia, CA

• Hudson Pecan Co., Inc., Ocilla, GA

• Humphrey Pecan LLC, San Antonio, TX

• La Nogalera USA Inc., El Paso, TX

• Navarro Pecan Company, Corsicana, TX

• Pecan Grove Farms, Dallas, TX

• Pecan Star & Nut Corp, San Antonio, TX

• Pecaninis Inc., San Antonio, TX

• Rancho Pecana, El Paso, TX

• South Georgia Pecan Company, Valdosta, GA

• Southern Roots Nut Company, LLC, Las Cruces, NM

Non-exporting Members

• Pecan Export Trade Council, Bryan, TX

Dated: November 22, 2024.
Amanda Reynolds,
Acting Director, Office of Trade and Economic Analysis, International Trade Administration, U.S. Department of Commerce.

[FR Doc. 2024-27866 Filed 11-26-24; 8:45 am]

BILLING CODE 3510-DR-P